DEPARTMENT OF DEFENSE

Department of the Navy

Notice of Availability of Record of Decision for the Final Environmental Impact Statement for the Naval Base Coronado Coastal Campus at Naval Base Coronado, California

AGENCY: Department of the Navy, DoD.

ACTION: Notice.

SUMMARY: The Department of the Navy (DoN), after carefully weighing the strategic, operational, and environmental consequences of the proposed action, announces its decision to support the current and future operations readiness of personnel with the Naval Special Warfare Command by constructing, operating, and maintaining a Coastal Campus at Silver Strand Training Complex-South at Naval Base Coronado, California as set out in Alternative 1 of the Final Environmental Impact Statement (EIS) for the Naval Base Coronado Coastal Campus, California. Implementation of this alternative would include the design and construction of logistical support buildings, equipment use and maintenance training facilities, classroom and tactical skills instruction buildings, storage and administrative facilities, utilities, fencing, roads, and parking. A new controlled entry point would be provided for immediate access to/from State Route 75. Building 99, a World War II-era bunker eligible for listing in the National Register of Historic Places, would be demolished to facilitate campus construction.

SUPPLEMENTARY INFORMATION: The complete text of the Record of Decision is available at https://NBCCoastalCampusEIS.com. Single copies of the Record of Decision are available upon request by contacting: Naval Facilities Engineering Command Southwest, Attn: Rebecca Loomis, 2730 McKean Street, Building 291, San Diego, California, 92136, 619-556-9968 or email: rebecca.l.loomis@navy.mil.

Dated: June 19, 2015.
N.A. Hagerty-Ford,
Federal Register Liaison Officer, Commander, Judge Advocate General's Corps, U.S. Navy.

[FR Doc. 2015-15715 Filed 6-25-15; 8:45 am]

BILLING CODE 3810-FF-P